DEPARTMENT OF LABOR

Employment and Training Administration

[TA-W-53,877, TA-W-53,877A, TA-W-53,877B, TA-W-53,877C]

Unifrax Corporation, Niagara Falls, NY; Unifrax Corporation, Tonowanda, NY; Unifrax Corporation, Amherst, NY; Unifrax Corporation, New Carlisle, IN; Notice of Termination of Investigation

Pursuant to section 221 of the Trade Act of 1974, as amended, an investigation was initiated on December 24, 2003, in response to a worker petition filed by the company on behalf of workers at Unifrax Corporation locations in Niagara Falls, New York, Tonowanda, New York, Amherst, New York, and New Carlisle, Indiana.

The petitioner has requested that the petition be withdrawn. The petitioner will re-file at a later date. Consequently, further investigation would serve no purpose, and the investigation has been terminated.

Signed at Washington, DC this 30th day of January, 2004.
Linda G. Poole,
Certifying Officer, Division of Trade Adjustment Assistance.

[FR Doc. 04-3568 Filed 2-18-04; 8:45 am]

BILLING CODE 4510-30-P